ENVIRONMENTAL PROTECTION AGENCY

[FRL-6866-8]

Proposed Administrative Cashout “Ability to Pay” Settlement Under Section 122(h)(1) of the Comprehensive Environmental Response Compensation and Liability Act; In the Matter of Powell Road Landfill, Dayton, Montgomery County, OH

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past and projected future response costs concerning the Powell Road Landfill site in Montgomery County, Ohio, with Central State University. The settlement requires Central State University to pay $1,000 to the Hazardous Substance Superfund.

The total cost of the cleanup is $26,925,537. This includes $4,735,2237, which represents Waste Management, Inc.'s past costs, including EPA oversight through December 31, 1996, and estimated future costs, including future oversight, of $22,940,300. EPA reduced the estimated future cost figure by $750,000 to account for certain generators who are insolvent or defunct. U.S. EPA's consultant, Industrial Economics, Inc., determined that based on the financial records supplied by Central State, Central State had no currently available resources to contribute to the cost of clean-up. Accordingly, U.S. EPA concluded that a payment of $1,000 was sufficient to resolve Central State's CERCLA liability. The financial analysis of U.S. EPA's consultant is attached to the Administrative Order on Consent as Attachment A. In exchange for Central State University's payment, the United States covenants not to sue or take administrative action pursuant to sections 106 and 107(a) of CERCLA, 42 U.S.C. 9606 and 9607(a), relating to the Site. In addition, Central State University will be entitled to protection from contribution actions or claims as provided by sections 113(f) and 122(h)(4) of CERCLA, 42 U.S.C. 9613(f) and 9622(h)(4), for all response costs incurred and to be incurred by any person at the Site.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at EPA's Region 5 Office at 77 West Jackson Boulevard, Chicago, Illinois, 60604 and at the Dayton & Montgomery County Public Library, Huber Heights Branch, 6160 Chambersburg Road, Huber Heights, Ohio 45424.

DATES: Comments must be submitted on or before October 10, 2000.

ADDRESSES: The proposed settlement is available for public inspection at EPA's Record Center, 7th floor, 77 W. Jackson Blvd., Chicago, Illinois, 60604. A copy of the proposed settlement may be obtained from Jeffrey A. Cahn, Associate Regional Counsel, U.S. EPA, Mail Code C-14J, 77 W. Jackson Blvd., Chicago, Illinois, 60604, telephone (312) 886-6670. Comments should reference the Powell Road Landfill site, Dayton, Montgomery County, Ohio, and EPA Docket No. V-W-00-C-589, and should be addressed to Jeffrey A. Cahn, Associate Regional Counsel, U.S. EPA, Mail Code C-14J, 77 W. Jackson Blvd., Chicago, Illinois, 60604.

FOR FURTHER INFORMATION CONTACT: Jeffrey A. Cahn, Associate Regional Counsel, U.S. EPA, Mail Code C-14J, 77 W. Jackson Blvd., Chicago, Illinois, 60604, telephone (312) 886-6670.

SUPPLEMENTARY INFORMATION: None.

Authority: The Comprehensive Environmental Response, Compensation, and Liability Act of 1980, as amended, 42 U.S.C. 9601, et seq.

Dated: August 28, 2000.
William E. Muno,
Director, Superfund Division, 052G.

[FR Doc. 00-23150 Filed 9-7-00; 8:45 am]

BILLING CODE 6560-50-U